DEPARTMENT OF HEALTH AND HUMAN SERVICES

National Institutes of Health

Submission for OMB Review; Comment Request; Leukemia and Other Hematological Diseases Among Cleanup Workers in Ukraine Following the Chornobyl Accident

SUMMARY: Under the provisions of Section 3507(a)(1)(D) of the Paperwork Reduction Act of 1995, the National Cancer Institute, the National Institutes of Health (NIH) has submitted to the Office of Management and Budget (OMB) for review and approval of the information collection listed below. This proposed information collection was previously published in the Federal Register on May 30, 2001, page 29336-29337 and allowed 60 days for public comment. No public comments were received. The purpose of this notice is to allow an additional 30 days for public comment. The National Institutes of Health may not conduct or sponsor, and the respondent is not required to respond to, an information collection that has been extended, revised or implemented on or after October 1, 1995, unless it displays a currently valid OMB control number.

Proposed Collection: Title: Leukemia and Other Hematological Diseases Among Cleanup Workers in Ukraine Following the Chornobyl Accident. Type of Information Collection Request: New. Need and Use of Information Collection: A case-control study will be conducted to investigate the risk of radiation-induced leukemia and other hematological diseases among Chernobyl cleanup workers in Ukraine. Cases and controls (or proxies) will be interviewed to provide details of their work during the Chornobyl clean-up operation. The interview responses combined with environmental measurements will permit individual bone marrow dose estimates to be calculated for each case and control. Dose estimates will be used to calculate the risk of leukemia and other hematological diseases associated with low-dose and low dose-rate radiation exposure. This information, which is essential for radiation protection, is currently not available and standards presently are based on information available only by extrapolation from high-dose, high dose-rate data on A-bomb survivors in Japan. Frequency of Response: One time only. Affected Public: Ukrainian Chornobyl clean-up workers. Types of Respondents: Cases, controls, and proxies for deceased subjects. The annual reporting burden is as follows: Estimate Number of Respondents: 700, Estimated Number of Responses per Respondent: Variable, about 50, Average Burden Hours Per Response: 0.75 hour; and Estimated Total Annual Burden Hours Requested: 400 hours (interviews to be conducted over 18-month period). The annualized cost to respondents is estimated at: $4,000. There are no Capital Costs, Operating Costs, and/or Maintenance Costs to report.

Request for Comments: Written comments and/or suggestions from the public and affected agencies are invited on one or more of the following points: (1) Evaluate whether the proposed collection of information is necessary for the proper performance of the National Cancer Institute, including whether the information will have practical utility, (2) evaluate the accuracy of the NCI's estimate of the burden of the proposed collection of information, including the validity of the methodology and assumptions used; (3) enhance the enhance the quality utility, and clarity of the information to be collected; (4) minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the Office of Management and Budget, Office of Regulatory Affairs, New Executive Office Building, Room 10235, Washington, DC 20503, Attention: Desk Officer for NIH. To request more information on the proposed project or to obtain a copy of the data collection plans and instruments, contact Dr. Terry L. Thomas, National Cancer Institute, EPS 7100, 6120 Executive Boulevard, Rockville, MD, 29892-7238, or call the non-toll free number (301) 496-6600.

Comments Due Date: Comments regarding this information collection are best assured of having their full effect if received on or before September 20, 2001.

Dated: August 13, 2001.
Reesa Nichols,
NCI Project Clearance Liaison.

[FR Doc. 01-20926 Filed 8-20-01; 8:45 am]

BILLING CODE 4140-01-M